DEPARTMENT OF STATE

[Public Notice 6226]

Shipping Coordinating Committee; Notice of Subcommittee Meeting

The Subcommittee on the Safety of Navigation of the Shipping Coordinating Committee (SHC) will be holding an open meeting at 9:30 a.m. on Wednesday, June 11, 2008, in room 6215, U.S. Coast Guard Headquarters, 2100 Second Street, SW., Washington, DC. The purpose of the meeting is to prepare for the 54th session of the Subcommittee on Safety of Navigation (NAV) of the International Maritime Organization (IMO) which is scheduled for June 30-July 4, 2008, to be held at IMO Headquarters, 4 Albert Embankment, London SE1 7SR, United Kingdom. Items of principal interest on the agenda are:

—Routing of ships, ship reporting and related matters;

—Development of guidelines for integrated bridge systems (IBS), including performance standards for bridge alert management;

—Amendments to the General Provisions on Ships' Routing;

—Carriage requirements for a bridge navigational watch alarm system;

—Review of the International Regulations for Preventing Collisions at Sea (COLREGs) regarding the right of way of vessels over pleasure craft;

— Amendments to COLREG Annex I related to color specification of lights;

— International Telecommunication Union (ITU) matters, including Radiocommunication ITU-R Study Group 8;

—Code of conduct during demonstrations/campaigns against ships on high seas;

—Measures to minimize incorrect data transmissions by automatic identification system (AIS) equipment;

—Worldwide radio navigation system (WWRNS);

—Development of an e-navigation strategy;

—Development of carriage requirements for electronic chart display and information system (ECDIS);

—Guidelines for uniform operating limitations of high-speed craft;

—Guidelines on the layout and ergonomic design of safety centers on passenger Ships;

—Review of vague expressions in the International Convention for the Safety of Life at Sea (SOLAS) regulation V/22;

—Revision of the Guidance on the application of AIS binary messages;

—Improved safety of pilot transfer arrangements;

—Casualty analysis; and

—Consideration of International Association of Classification Societies (IACS) unified interpretations.

Members of the public may attend these meetings up to the seating capacity of the room. Interested persons may seek information by writing: Mr. Edward J. LaRue, Jr., U.S. Coast Guard (CG-5413), Room 1407, 2100 Second Street, SW., Washington, DC 20593-0001 or by calling: (202) 372-1564.

Dated: May 21, 2008.
Mark Skolnicki,
Executive Secretary, Shipping Coordinating Committee, Department of State.

[FR Doc. E8-11895 Filed 5-27-08; 8:45 am]

BILLING CODE 4710-09-P